DEPARTMENT OF THE INTERIOR

Fish and Wildlife Service

DEPARTMENT OF COMMERCE

National Oceanic and Atmospheric Administration

[FWS-R5-NWRS-2022-N062; FF05R00000 FXRS12610500000]

Northeast Canyons and Seamounts Marine National Monument; Proposed Joint Monument Management Plan

AGENCY: Fish and Wildlife Service, Interior; National Oceanic and Atmospheric Administration, Commerce.

ACTION: Notice of intent; request for comments.

SUMMARY: The U.S. Fish and Wildlife Service and the National Oceanic and Atmospheric Administration intend to prepare a draft monument management plan for the Northeast Canyons and Seamounts Marine National Monument, which was established by Presidential Proclamation 9496 and updated by Presidential Proclamation 10287. When the draft plan is complete, we will advertise its availability and seek public comment. We furnish this notice to advise the public and Federal, Tribal, State, and local governments and agencies of our intentions, and to obtain suggestions and information on the scope of issues to consider during the planning process. An environmental assessment to evaluate the potential effects of various management alternatives will also be prepared. The environmental assessment will provide resource managers with the information needed to determine if the potential effects may be significant and warrant preparation of an environmental impact statement, or if the potential impacts lead to a finding of no significant impact.

DATES: To ensure consideration, we must receive your written comments by January 27, 2023.

ADDRESSES: Document availability and comment submission: Additional information about the Monument is available at https://www.fws.gov/national-monument/northeast-canyons-and-seamounts-marine and https://www.fisheries.noaa.gov/new-england-mid-atlantic/habitat-conservation/northeast-canyons-and-seamounts-marine-national.

Please send your written comments or requests for more information by one of the following methods:

• Email: ncsmnm_planning@fws.gov.

• U.S. Mail: Brittany Petersen, Marine Monument Superintendent, USFWS; 300 Westgate Center Drive; Hadley, MA 01035.

For more information, please see Public Availability of Comments.

FOR FURTHER INFORMATION CONTACT: Brittany Petersen, U.S. Fish and Wildlife Service, Marine National Monument Superintendent, by phone at 413-253-8329, or via email at ncsmnm@fws.gov; or Marianne Ferguson, National Oceanic and Atmospheric Administration, by phone at 978-675-2188, or via email at marianne.ferguson@noaa.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

On October 8, 2021, President Joseph Biden issued Proclamation 10287 (86 FR 57349, October 15, 2021), charging the Secretaries of the managing agencies, the Department of the Interior and the Department of Commerce (Departments), to prepare a joint management plan for the Northeast Canyons and Seamounts Marine National Monument by September 15, 2023.

Monument Establishment and Management Responsibilities

On September 15, 2016, President Barack Obama issued Presidential Proclamation 9496 (81 FR 65161, September 21, 2016), establishing the Northeast Canyons and Seamounts Marine National Monument (Monument) under the authority of the Antiquities Act of 1906. The canyon and seamount area contains objects of historic and scientific interest that are situated upon lands owned or controlled by the Federal Government—the Monument was established for the purpose of preserving these objects for the public interest. More information about the Monument's establishment and regulated activities can be found in Presidential Proclamation 9496 (81 FR 65161, September 21, 2016).

The Monument is composed of two units, located in the Atlantic Ocean approximately 130 miles (mi) (209 kilometers (km)) southeast of Cape Cod, Massachusetts. The Canyons Unit includes three underwater canyons—Oceanographer, Gilbert, and Lydonia—and covers approximately 941 square mi (mi²) (2,437 square km (km²)). The Seamounts Unit includes four seamounts—Bear, Mytilus, Physalia, and Retriever—and encompasses 3,972 mi² (10,287 km²). The waters and submerged lands within the Monument boundaries total approximately 4,913 mi² (12,725 km²).

The Secretary of the Interior and Secretary of Commerce share management responsibilities for the Monument, as directed by Presidential Proclamations 9496 and 10287, under their applicable legal authorities. The Proclamations require the Secretaries to prepare a management plan within their respective authorities for the Monument and promulgate and implement regulations that address specific actions necessary for the proper care and management of the Monument. With this notice, the Departments are commencing development of the Monument Management Plan (MMP, plan). The Departments will work cooperatively under the U.S. Fish and Wildlife Service's (Service) lead in this process and intend to cooperatively coordinate in the development and timing of this planning process and implementation of the plan.

The Monument's Natural Resources

The Northeast Canyons and Seamounts Marine National Monument harbors exceptional geological features, in an area where the Gulf Stream and the Deep Western Boundary Current meet, creating the ideal conditions that result in a nutrient-rich, biodiverse area in the ocean. This area of productivity draws in a diversity of ocean life and supplies these creatures with nursery, feeding, and migration habitats.

The submarine canyons and seamounts create dynamic currents and eddies that enhance biological productivity and provide feeding and wintering grounds for seabirds; pelagic species, including whales, dolphins, and turtles; and highly migratory fish, such as tunas, billfish, and sharks. The warm Gulf Stream conditions support at least 54 species of corals. The corals, together with other structure-forming fauna such as sponges and anemones, create a foundation for vibrant deep-sea ecosystems, providing food, spawning habitat, and shelter for an array of fish and invertebrate species. The abundant waters are a beacon for the Atlantic's seabirds, including Atlantic puffins (Fratercula arctica), razorbills (Alca torda), shearwaters, gannetts, and even Bermuda storm-petrels (Pterodroma cahow), which were once thought to be extinct. Endangered species such as the sperm whale (Physeter macrocephalus), Kemp's Ridley sea turtle (Lepidochelys kempii), and a variety of others have been viewed within the Monument's boundaries. The ecological conditions found in the Monument sustain a diverse food web that is unique to this area along the Atlantic coast.

The Canyons Unit

Oceanographer, Gilbert, and Lydonia Canyons are among the largest of the major submarine canyons that line the U.S. continental shelf. They extend approximately 22 to 30 mi in length (35 to 48 km), and range in depth from approximately 500 feet (ft) (152 meters (m)) at their heads to around 7,700 ft (2,345 m) where they intersect with the continental rise, making them deeper than the Grand Canyon. Active erosion and powerful ocean currents transport sediments and organic carbon through the canyons, resulting in habitats for sponges, corals, and other invertebrates that filter food from the water to flourish, and for larger species such as squid, octopus, skates, flounders, and crabs. Major oceanographic features, such as currents, temperature gradients, eddies, and fronts, occur on a large scale and influence the distribution patterns of such highly migratory oceanic species. These unique conditions support an area with some of the highest diversity of marine mammals along the East Coast of the United States.

The Seamounts Unit

Bear, Physalia, Mytilus, and Retriever Seamounts are extinct underwater volcanoes, and the only seamounts in the U.S. Atlantic Exclusive Economic Zone (EEZ). They form the beginning of the New England Seamount chain, which stretches halfway across the western North Atlantic Ocean. Bear Seamount is approximately 100 million years old and the largest of the four; it rises approximately 8,200 ft (2,499 m) from the seafloor to within 3,280 ft (1,000 m) of the sea surface. Its summit is over 12 mi (19 km) in diameter. The three smaller seamounts reach to within 6,500 ft (1,981 m) of the sea surface. All four seamounts have steep and complex topography that interrupts passing currents; this action provides a constant supply of plankton and nutrients to the animals that inhabit the unit. It also causes upwelling of nutrient-rich waters toward the ocean surface. These seamounts support highly diverse ecological communities, with deep-sea corals that are hundreds to thousands of years old and a wide array of other bottom-dwelling marine organisms not found on the surrounding deep-sea floor. They provide shelter from predators, increased food, nurseries, and spawning areas. The New England Seamounts have many rare and endemic species, several of which are new to science and are not known to live anywhere else on Earth.

The Monument Management Plan Development Process

The MMP's format will include elements similar to a National Wildlife Refuge System comprehensive conservation plan (CCP), and the planning process for those elements will be conducted in a manner similar to the CCP planning and public involvement process. The MMP will be updated every 15 years.

We will conduct environmental reviews of various management alternatives and develop an environmental assessment (EA) in accordance with the National Environmental Policy Act of 1969 (NEPA; 42 U.S.C. 4321 et seq.), as amended; NEPA regulations (40 CFR parts 1500-1508); other Federal laws and regulations; and our policies and procedures for compliance with those laws and regulations.

The Service, as lead agency for NEPA purposes, will also designate and involve as cooperating agencies the Department of Commerce, through the National Oceanic and Atmospheric Administration (NOAA), the Department of Defense, and the Department of State.

Public Involvement

The Service and NOAA will conduct the planning process in a manner that will provide participation opportunities for the public, Tribes, Federal and local government agencies, and other interested parties. At this time, we are seeking ideas and comments to help guide the management of the Monument. Potential topics may include, but are not limited to:

• Research

• Outreach and engagement

• Environmental education

• Conservation of the resource

Because the Proclamations prohibit commercial fishing within the Monument (with the exception of red crab and lobster until September 15, 2023), the MMP will not consider management alternatives that allow commercial fishing. Opportunities for additional public input will be announced throughout the planning process.

Next Steps

The Service and NOAA will consider your comments during development of the Draft MMP/EA.

Public Availability of Comments

Before including your address, phone number, or other personal identifying information in your comment, you should be aware that your entire comment—including your personal identifying information—may be made publicly available at any time. While you can ask us in your comments to withhold your personal identifying information from public review, we cannot guarantee that we will be able to do so.

Kyla Hastie,
Acting Regional Director, U.S. Fish and Wildlife Service, Hadley, Massachusetts.
Kelly Denit,
Director, Office of Sustainable Fisheries, National Marine Fisheries Service.

[FR Doc. 2022-28203 Filed 12-27-22; 8:45 am]

BILLING CODE 4333-15-P